NUCLEAR REGULATORY COMMISSION

Advisory Committee on Reactor Safeguards; Meeting Notice

In accordance with the purposes of Sections 29 and 182b. of the Atomic Energy Act (42 U.S.C. 2039, 2232b), the Advisory Committee on Reactor Safeguards will hold a meeting on March 1-4, 2000, in Conference Room T-2B3, 11545 Rockville Pike, Rockville, Maryland. The date of this meeting was previously published in the Federal Register on Thursday, October 14, 1999 (64 FR 55787).

Wednesday, March 1, 2000

1:00 p.m.-1:15 p.m.: Opening Remarks by the ACRS Chairman (Open)—The ACRS Chairman will make opening remarks regarding the conduct of the meeting.

1:15 p.m.-3:15 p.m.: Development of Risk-Informed Revisions to 10 CFR part 50, “Domestic Licensing of Production and Utilization Facilities” (Open)—The Committee will hear presentations by and hold discussions with representatives of the NRC staff regarding the status of developing risk-informed revisions to 10 CFR part 50 and related matters.

3:30 p.m.-6:00 p.m.: Discussion of Proposed ACRS Reports (Open)—The Committee will discuss proposed ACRS reports on matters considered during this meeting. In addition, the Committee will discuss proposed ACRS reports on Low-Power and Shutdown Operations Risk Insights Report, and on Proposed Revision of the Commission's Safety Goal Policy Statement for Reactors.

6:15 p.m.-7:15 p.m.: Discussion of Topics for Meeting with the NRC Commissioners (Open)—The Committee will discuss issues associated with risk-informed regulation, including impediments to the increased use of risk-informed regulation; use of importance measures in regulatory applications, impact of the scope and quality of the PRA on importance measures, and threshold values for importance measures; and technical adequacy of performance indicators.

Thursday, March 2, 2000

8:30 a.m.-8:35 a.m.: Opening Remarks by the ACRS Chairman (Open)—The ACRS Chairman will make opening remarks regarding the conduct of the meeting.

8:35 a.m.-9:15 a.m.: Discussion of Topics for Meeting with the NRC Commissioners (Open)—The Committee will discuss matters scheduled for the meeting with the NRC Commissioners associated with risk-informed regulation and related matters.

9:30 a.m.-11:30 a.m.: Meeting with the NRC Commissioners (Open)—The Committee will meet with the NRC Commissioners, Commissioners' Conference Room, One White Flint North, to discuss matters associated with risk-informed regulation and related matters.

1:00 p.m.-2:30 p.m.: Technical Components Associated with the Revised Reactor Oversight Process (Open)—The Committee will hear presentations by and hold discussions with representatives of the NRC staff regarding the technical components associated with the revised reactor oversight process, including the updated significant determination process, technical adequacy of the current and proposed performance indicators, and related matters.

2:45 p.m.-4:00 p.m.: Oconee Nuclear Power Plant License Renewal Application (Open)—The Committee will hear presentations by and hold discussions with representatives of the NRC staff and Duke Energy Corporation regarding the license renewal application for the Oconee Nuclear Power Station and the associated NRC staff's Safety Evaluation Report.

4:15 p.m.-4:45 p.m.: Proposed Final Amendment to 10 CFR 50.72 and 50.73 (Open)—The Committee will hold discussions with representatives of the NRC staff regarding issues raised by the ACRS members during the February ACRS meeting, including the intent of the 10 CFR 50.73 requirement for reporting degraded components.

4:45 p.m.-5:15 p.m.: Proposed Final Revision 3 to Regulatory Guide 1.160, “Assessing and Managing Risk Before Maintenance Activities at Nuclear Power Plants” (Open)—The Committee will hold discussions with representatives of the NRC staff, as needed, regarding the proposed final revision 3 to Regulatory Guide 1.160.

5:15 p.m.-6:15 p.m.: Break and Preparation of Draft ACRS Reports (Open)—Cognizant ACRS members will prepare draft reports for consideration by the full Committee.

6:15 p.m.-7:15 p.m.: Discussion of Proposed ACRS Reports (Open)—The Committee will discuss proposed ACRS reports.

Friday, March 3, 2000

8:30 a.m.-8:35 a.m.: Opening Remarks by the ACRS Chairman (Open)—The ACRS Chairman will make opening remarks regarding the conduct of the meeting.

8:35 a.m.-10:15 a.m.: Phenomena Identification and Ranking Table (PIRT) for High Burnup Fuel (Open)—The Committee will hear presentations by and hold discussions with representatives of the NRC staff regarding the use of PIRT process for high burnup fuel.

10:30 a.m.-11:30 a.m.: Proposed Resolution of Generic Safety Issue B-17, “Criteria for Safety Related Operator Actions” (Open)—The Committee will hear presentations by and hold discussions with representatives of the NRC staff regarding the proposed resolution of Generic Safety Issue B-17.

11:30 a.m.-12:00 Noon: Report of the Planning and Procedures Subcommittee (Open)—The Committee will hear a report of the Planning and Procedures Subcommittee on matters related to the conduct of ACRS business.

1:00 p.m.-1:15 p.m.: Future ACRS Activities (Open)—The Committee will discuss the recommendations of the Planning and Procedures Subcommittee regarding items proposed for consideration by the full Committee during future meetings.

1:15 p.m.-1:30 p.m.: Reconciliation of ACRS Comments and Recommendations (Open)—The Committee will discuss the responses from the NRC Executive Director for Operations (EDO) to comments and recommendations included in recent ACRS reports and letters. The EDO responses are expected to be made available to the Committee prior to the meeting.

1:30 p.m.-2:30 p.m.: Break and Preparation of Draft ACRS Reports (Open)—Cognizant ACRS members will prepare draft reports for consideration by the full Committee.

2:30 p.m.-7 p.m.: Discussion of Proposed ACRS Reports (Open)—The Committee will discuss proposed ACRS reports.

Saturday, March 4, 2000

8:30 a.m.-1:30 p.m.: Discussion of Proposed ACRS Reports (Open)—The Committee will continue its discussion of proposed ACRS reports.

1:30 p.m.-2:00 p.m.: Miscellaneous (Open)—The Committee will discuss matters related to the conduct of Committee activities and matters and specific issues that were not completed during previous meetings, as time and availability of information permit.

Procedures for the conduct of and participation in ACRS meetings were published in the Federal Register on September 28, 1999 (64 FR 52353). In accordance with these procedures, oral or written views may be presented by members of the public, including representatives of the nuclear industry. Electronic recordings will be permitted only during the open portions of the meeting and questions may be asked only by members of the Committee, its consultants, and staff. Persons desiring to make oral statements should notify Mr. Sam Duraiswamy, ACRS, five days before the meeting, if possible, so that appropriate arrangements can be made to allow necessary time during the meeting for such statements. Use of still, motion picture, and television cameras during this meeting may be limited to selected portions of the meeting as determined by the Chairman. Information regarding the time to be set aside for this purpose may be obtained by contacting Mr. Sam Duraiswamy prior to the meeting. In view of the possibility that the schedule for ACRS meetings may be adjusted by the Chairman as necessary to facilitate the conduct of the meeting, persons planning to attend should check with Mr. Sam Duraiswamy if such rescheduling would result in major inconvenience.

Further information regarding topics to be discussed, whether the meeting has been canceled or rescheduled, the Chairman's ruling on requests for the opportunity to present oral statements and the time allotted therefor, can be obtained by contacting Mr. Sam Duraiswamy (telephone 301/415-7364), between 7:30 a.m. and 4:15 p.m., EST.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m. EST at least 10 days before the meeting to ensure the availability of this service. Individuals or organizations requesting this service will be responsible for telephone line charges and for providing the equipment facilities that they use to establish the videoteleconferencing link. The availability of videoteleconferencing services is not guaranteed.

Dated: February 11, 2000.
Annette Vietti-Cook,
Acting Advisory Committee Management Officer.

[FR Doc. 00-3802 Filed 2-16-00; 8:45 am]

BILLING CODE 7590-01-P